CONSUMER PRODUCT SAFETY COMMISSION

Sunshine Act Meeting Notice

FEDERAL REGISTER CITATION OF PREVIOUS ANNOUNCEMENT: Vol. 777 No. 121, Friday, June 22, 2012, page 37660.

ANNOUNCED TIME AND DATE OF OPEN MEETING: 10 a.m.-11 a.m., Wednesday June 27, 2012.

CHANGES TO OPEN MEETING: REVISED AGENDA AND TIME: Matters to be Considered: (1) Decisional Matters: Play Yards—Final Rule; (2) Briefing Matter: Representative Samples; 10 a.m.-12 p.m., Wednesday, June 27, 2012.

For a recorded message containing the latest agenda information, call (301) 504-7948.

CONTACT PERSON FOR ADDITIONAL INFORMATION: Todd A. Stevenson, Office of the Secretary, 4330 East West Highway, Bethesda, MD 20814 (301) 504-7923.

Dated: June 25, 2012.
Todd A. Stevenson,
Secretary.

[FR Doc. 2012-15840 Filed 6-25-12; 4:15 pm]

BILLING CODE 6355-01-P